DEPARTMENT OF COMMERCE

International Trade Administration

[C-560-829]

Certain Uncoated Paper From Indonesia: Final Results of Countervailing Duty Administrative Review; 2015-2016

AGENCY: Enforcement and Compliance, International Trade Administration, Department of Commerce.

SUMMARY: The Department of Commerce (Commerce) determines that PT Anugrah Kertas Utama, PT Riau Andalan Kertas, APRIL Fine Paper Macao Commercial Offshore Limited, and their cross-owned affiliates (collectively “APRIL”), exporters/producers of certain uncoated paper from Indonesia, received countervailable subsidies during the period June 29, 2015, through December 31, 2016.

DATES: Applicable October 17, 2018.

FOR FURTHER INFORMATION CONTACT: David Goldberger or Darla Brown, AD/CVD Operations, Office II, Enforcement and Compliance, International Trade Administration, U.S. Department of Commerce, 1401 Constitution Avenue NW, Washington, DC 20230; telephone: (202) 482-4136 or 202-482-1791, respectively.

SUPPLEMENTARY INFORMATION:

Background

On April 10, 2018, Commerce published the Preliminary Results of this administrative review in the Federal Register.¹ We invited interested parties to comment on the Preliminary Results. On May 2, 2018, Commerce postponed the final results of review until October 9, 2018.² In July 2018, we received timely case and rebuttal briefs from APRIL, the Government of Indonesia, and the petitioners. Based on an analysis of the comments received, Commerce made changes to the subsidy rates determined for APRIL. The final subsidy rates are listed below in the “Final Results of Administrative Review” section.

¹ See Certain Uncoated Paper from Indonesia: Preliminary Results of Countervailing Duty Administrative Review; 2015-2016, 83 FR 15370 (April 10, 2018) (Preliminary Results).

² See Memorandum, “Certain Uncoated Paper from Indonesia: Extension of Deadline for Final Results of 2015-2016 Countervailing Duty Administrative Review,” dated May 2, 2018.

Scope of the Order

The merchandise covered by the order is certain uncoated paper from Indonesia. A full description of the scope of the order is contained in the Issues and Decision Memorandum, which is hereby adopted by this notice.³

³ See Memorandum, “Issues and Decision Memorandum for the Final Results of 2015-2016 Countervailing Duty Administrative Review: Certain Uncoated Paper from Indonesia,” dated concurrently with this notice (Issues and Decision Memorandum).

Analysis of Comments Received

All issues raised in interested parties' briefs are addressed in the Issues and Decision Memorandum accompanying this notice. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be access directly at http://enforcement.trade.gov/frn/. The signed and electronic versions of the Issues and Decision Memorandum are identical in content.

Changes Since the Preliminary Results

Based on the comments received from the interested parties, we made changes to our subsidy rate calculations. For a discussion of these issues, see the Issues and Decision Memorandum.

Methodology

Commerce conducted this review in accordance with section 751(a)(1)(A) of the Tariff Act of 1930, as amended (the Act). For each of the subsidy programs found to be countervailable, we find that there is a subsidy, i.e., a financial contribution from a government or public entity that gives rise to a benefit to the recipient, and that the subsidy is specific.⁴ For a full description of the methodology underlying all of Commerce's conclusions, see the Issues and Decision Memorandum.

⁴ See sections 771(5)(B) and (D) of the Act regarding financial contribution; section 771(5)(E) of the Act regarding benefit; and section 771(5A) of the Act regarding specificity.

Final Results of Administrative Review

In accordance with section 777A(e) of the Act and 19 CFR 351.221(b)(5), we determine the following countervailable subsidy rates for 2015 and 2016:

Company | 2015 Ad Valorem rate | 2016 Ad Valorem rate
APRIL Fine Paper Macao Commercial Offshore Limited/PT Anugrah Kertas Utama/PT Riau Andalan Kertas/PT Intiguna Primatama/PT Riau Andalan Pulp & Paper/PT Esensindo Cipta Cemerlang/PT Sateri Viscose International/PT ITCI Hutani Manunggal | 11.71% | 5.13%

Assessment Rates

In accordance with 19 CFR 351.212(b)(2), Commerce shall determine, and U.S. Customs and Border Protection (CBP) shall assess, countervailing duties on all appropriate entries covered by this review. We intend to issue assessment instructions to CBP 15 days after the date of publication of the final results of this review.

Cash Deposit Requirements

Pursuant to section 751(a)(2)(C) of the Act, Commerce also intends to instruct CBP to collect cash deposits of estimated countervailing duties in the amount calculated for 2016. For all non-reviewed firms, we will instruct CBP to collect cash deposits at the most recent company-specific or all-others rate applicable to the company, as appropriate. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results are issued and published in accordance with sections 751(a)(1) and 777(i)(1) of the Act.

Dated: October 9, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Subsidies Valuation Information

A. Allocation Period

B. Attribution of Subsidies

C. Benchmarks and Short-Term Interest Rates

V. Programs Determined To Be Countervailable

VI. Program Determined Not To Confer Benefits

VII. Programs Determined Not To Be Countervailable

VIII. Programs Determined Not to Be Used During the Period of Review

IX. Analysis of Comments

Comment 1: Whether Commerce Should Apply Adverse Facts Available to a Loan from Bank Rakyat Indonesia (BRI) to PT Sateri Viscose International (SVI)

Comment 2: Whether Commerce Should Exclude the Sales of PT ITCI Hutani Manunggal (IHM) from the Sales Denominator for PT Riau Andalan Pulp & Paper (RAPP)

Comment 3: Which Benchmark is Appropriate for Mixed Hardwood Logs

Comment 4: Which Benchmark is Appropriate for Valuing Acacia Logs under the Log Export Ban Program

Comment 5: Whether Commerce Should Deduct Cost Items Inherent to Plantation Operations as Part of Harvesting Costs for the Stumpage Program

Comment 6: Whether Commerce Should Deduct Transportation-Related Costs from Mill-Delivered Prices for the Stumpage Program

Comment 7: What is the Appropriate Adjustment for Logging Profit

Comment 8: Using APRIL's Corrected Data Obtained at Verification in the Subsidy Rate Calculations for the Final Results

Comment 9: Correction of Errors in the Subsidy Rate Calculations for Preliminary Results

X. Recommendation

[FR Doc. 2018-22633 Filed 10-16-18; 8:45 am]

BILLING CODE 3510-DS-P